FEDERAL COMMUNICATIONS COMMISSION

47 CFR Parts 1 and 27

[WT Docket No. 12-357; FCC 13-88]

Service Rules for the Advanced Wireless Services H Block-Implementing Section 6401 of the Middle Class Tax Relief and Job Creation Act of 2012 Related to the 1915-1920 MHz and 1995-2000 MHz Bands

AGENCY: Federal Communications Commission.

ACTION: Final rule; announcement of effective date.

SUMMARY: In this document, the Commission announces that the Office of Management and Budget (OMB) has approved, for a period of three years revisions to FCC Form 603, OMB Control Number 3060-0800, and FCC Form 608, OMB Control Number 3060-1058, associated with the Commission's Report and Order (R&O), Service Rules for the Advanced Wireless Services H Block-Implementing Section 6401 of the Middle Class Tax Relief and Job Creation Act of 2012 Related to the 1915-1920 MHz and 1995-2000 MHz Bands. A notice announcing the effective date of the service rules and revisions to the FCC Form 601 was published on January 17, 2014 in the Federal Register.

DATES: The rules §§ 1.946, 27.10, 27.12, and 27.17 effective on January 17, 2014, pursuant to a rule published at 79 FR 3133 (January 17, 2014). The corresponding revisions to the existing collections on FCC Form 603, OMB Control Number 3060-0800, and FCC Form 608, OMB Control Number 3060-1058, are effective February 10, 2014.

FOR FURTHER INFORMATION CONTACT: Dorothy Stifflemire, Wireless Telecommunications Technologies, Systems Innovation Division, at (202) 418-7349 or by email at Dorothy.Stifflemire@fcc.gov <mailto:Dorothy.Stifflemire@fcc.gov>.

SUPPLEMENTARY INFORMATION: This document announces that, on January 27, 2014, OMB approved, for a period of three years, the revised information collection requirements for the FCC Forms 603 and 608 that were submitted to OMB for review and described in a 30-day notice published at 78 FR 77676, December 24, 2013. These OMB approved revisions add the national security certification required by § 6004 of the Middle Class Tax Relief and Job Creation Act of 2012, 47 U.S.C 1404, to the FCC Forms 603 and 608. The Commission has already obtained OMB approval for revisions to its previously-approved information collections for FCC Forms 175 and 601. The effective date for the revisions to the existing collection on FCC Form 175 has been published. See H Block Report and Order (Revisions to FCC Form 175, OMB Control 3060-0600), Effective Date Notice, published at 78 FR 66287 on November 5, 2013. The revisions to the existing collection on FCC Form 601, OMB Control Number 3060-0798), Effective Date Notice, were published at 79 FR 3133 on January 17, 2014. See Notice of Office of Management and Budget Action, ICR Reference Number 201311-3060-018, FCC Application for Radio Service Authorization: WTB and PSHSB, FCC Form 601, OMB Control 3060-0798, Approved without change on Jan. 2, 2014, available at http://www.reginfo.gov/public/do/PRAOMBHistory?ombControlNumber=3060-0798#.

If you have any comments on the burden estimates listed below, or how the Commission can improve the collections and reduce any burdens caused thereby, please contact Cathy Williams at (202) 418-2918 or via the Internet at Cathy.Williams@fcc.gov <mailto:Cathy.Williams@fcc.gov>. Please include the OMB Control Number 3060-0800 on correspondence regarding FCC Form 603, and OMB Control Number 3060-1058 on correspondence regarding the FCC Form 608. The Commission will also accept your comments via email at PRA@fcc.gov <mailto:PRA@fcc.gov>.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on January 27, 2014 for revisions to the FCC Forms 603 and 608 to add the national security certification required by § 6004 of the Middle Class Tax Relief and Job Creation Act of 2012, 47 U.S.C 1404. Additionally, the FCC Forms 603 and 608 are revised to update the Alien Ownership certifications pursuant to the Second Report and Order, FCC 13-50, IB Docket 11-133, Review of Foreign Ownership Policies for Common Carrier and Aeronautical Radio Licensees under Section 310(b)(4) of the Communications Act of 1934, as Amended, published at 78 FR 41314-01 on July 10, 2013, available at http://www.gpo.gov/fdsys/pkg/FR-2013-07-10/pdf/2013-15314.pdf.

Under 5 CFR part 1320, an agency may not conduct or sponsor a collection of information unless it displays a current, valid OMB Control Number. No person shall be subject to any penalty for failing to comply with a collection of information subject to the Paperwork Reduction Act that does not display a current, valid OMB Control Number. The OMB Control Numbers are 3060-0800 and 3060-1058. The foregoing notice is required by the Paperwork Reduction Act of 1995, Pub. L. 104-13, October 1, 1995, and 44 U.S.C. 3507.

The total annual reporting burdens and costs for the respondents are as follows:

OMB Control Number: 3060-0800.

OMB Approval Date: January 27, 2014.

OMB Expiration Date: January 31, 2017.

Title: FCC Application for Assignment of Authorization or Transfer of Control: WTB and PSHS Bureaus.

Form Number: FCC Form 603.

Respondents: Individuals or households, Business or other for-profit entities, not-for-profit institutions, and State, local or tribal government.

Number of Respondents and Responses: 2,447 respondents; 2,447 responses.

Estimated Time per Response: 0.5-1.75 hours.

Frequency of Response: On occasion reporting requirement; Recordkeeping requirement.

Obligation to Respond: Required to obtain or retain benefits. The statutory authority for this collection of information is contained in 47 U.S.C. 4(i), 154(i), 303(r) and 309(j).

Total Annual Burden: 2,754 hours.

Total Annual Cost: $366,975.

Privacy Impact Assessment: Yes.

Nature and Extent of Confidentiality: In general there is no need for confidentiality with this collection of information.

Needs and Uses: FCC Form 603 is a multi-purpose form used to apply for approval of assignment or transfer of control of licenses in the wireless services. The data collected on this form is used by the FCC to determine whether the public interest would be served by approval of the requested assignment or transfer. This form is also used to notify the Commission of consummated assignments and transfers of wireless and/or public safety licenses that have previously been consented to by the Commission or for which notification but not prior consent is required. This form is used by applicants/licensees in the Public Mobile Services, Personal Communications Services, General Wireless Communications Services, Private Land Mobile Radio Services, Broadcast Auxiliary Services, Broadband Radio Services, Educational Radio Services, Fixed Microwave Services, Maritime Services (excluding ships), and Aviation Services (excluding aircraft).

The purpose of this form is to obtain information sufficient to identify the parties to the proposed assignment or transfer, establish the parties basic eligibility and qualifications, classify the filing, and determine the nature of the proposed service. Various technical schedules are required along with the main form applicable to Auctioned Services, Partitioning and Disaggregation, Undefined Geographical Area Partitioning, Notification of Consummation or Request for Extension of Time for Consummation. The FCC Form 603 is revised to add a National Security Certification that is applicable to applicants for licenses issued pursuant to the Middle Class Tax Relief and Job Creation Act of 2012 (the 2012 Spectrum Act). § 6004 of the 2012 Spectrum Act, 47 U.S.C. 1404, prohibits a person who has been, for reasons of national security, barred by any agency of the Federal Government from bidding on a contract, participating in an auction, or receiving a grant from participating in any auction that is required or authorized to be conducted pursuant to the 2012 Spectrum Act. On June 27, 2013, the Commission released a Report and Order (R&O), FCC 13-88, WT Docket No. 12-357, in which it established service rules and competitive bidding procedures for the 1915-1920 MHz and 1995-2000 MHz bands. See Service Rules for the Advanced Wireless Services H Block-Implementing Section 6401 of the Middle Class Tax Relief and Job Creation Act of 2012 Related to the 1915-1920 MHz and 1995-2000 MHz Bands, Report and Order, FCC 13-88, 28 FCC Rcd 9483 (2013). The R&O also implemented § 6004 by requiring that a party seeking to participate in any auction conducted pursuant to the 2012 Spectrum Act certify in its application, under penalty of perjury, that the applicant and all of the related individuals and entities required to be disclosed on its application are not person(s) who have been, for reasons of national security, barred by any agency of the Federal Government from bidding on a contract, participating in an auction, or receiving a grant and thus statutorily prohibited from participating in such a Commission auction or being issued a license. In addition, the R&O determined that the National Security Certification required by § 6004 extends to transfers, assignments, and other secondary market mechanisms involving licenses granted pursuant to the 2012 Spectrum Act. See H Block R&O, 28 FCC Rcd at 9555 ¶ 187. OMB approved the revision to the collection for the FCC Form 603 to include this additional certification. The revised collection will enable the Commission to determine whether an applicant's request for a license pursuant to the 2012 Spectrum Act is consistent with § 6004.

Additionally, the FCC Form 603 is revised to update the Alien Ownership certifications pursuant to the Second Report and Order, FCC 13-50, IB Docket 11-133, Review of Foreign Ownership Policies for Common Carrier and Aeronautical Radio Licensees under § 310(b)(4) of the Communications Act of 1934, as Amended.

The addition of the National Security Certification and the revision to the Alien Ownership certification resulted in no change in burden for the revised collection.

OMB Control No.: 3060-1058.

OMB Approval Date: January 27, 2014.

OMB Expiration Date: January 31, 2017.

Title: FCC Application or Notification for Spectrum Leasing Arrangement: Wireless Telecommunications Bureau and/or Public Safety and Homeland Security Bureau.

Form No.: FCC Form 608.

Respondents: Business or other for-profit; Not-for-profit institutions; and State, Local or Tribal government.

Number of Respondents and Responses: 991 respondents; 991 responses.

Estimated Time per Response: 1 hour.

Frequency of Response: On occasion reporting requirement, Recordkeeping requirement.

Obligation to Respond: Required to obtain or retain benefits. The statutory authority for collection is contained in 47 U.S.C. 151, 154(i), 154(j), 155, 158, 161, 301, 303(r), 308, 309, 310 and 503.

Total Annual Burden: 991 hours.

Total Annual Cost: $1,282,075.

Privacy Act Impact Assessment: Not applicable.

Nature and Extent of Confidentiality: In general there is no need for confidentiality with this collection of information.

Needs and Uses: The FCC Form 608 is a multipurpose form. It is used to provide notification or request approval for any spectrum leasing arrangement (`Leases') entered into between an existing licensee (`Licensee') in certain wireless services and a spectrum lessee (`Lessee'). This form also is required to notify or request approval for any spectrum subleasing arrangement (`Sublease'). The data collected on the form is used by the FCC to determine whether the public interest would be served by the Lease or Sublease. The form is also used to provide notification for any Private Commons Arrangement entered into between a Licensee, Lessee, or Sublessee and a class of third-party users (as defined in § 1.9080 of the Commission's Rules).

The FCC Form 608 is revised to add a National Security Certification that is applicable to applicants for licenses issued pursuant to the Middle Class Tax Relief and Job Creation Act of 2012 (2012 Spectrum Act). § 6004 of the 2012 Spectrum Act, 47 U.S.C. 1404, prohibits a person who has been, for reasons of national security, barred by any agency of the Federal Government from bidding on a contract, participating in an auction, or receiving a grant from participating in any auction that is required or authorized to be conducted pursuant to the 2012 Spectrum Act. On June 27, 2013, the Commission released a Report and Order (R&O), FCC 13-88, WT Docket No. 12-357, in which it established service rules and competitive bidding procedures for the 1915-1920 MHz and 1995-2000 MHz bands. See Service Rules for the Advanced Wireless Services H Block-Implementing Section 6401 of the Middle Class Tax Relief and Job Creation Act of 2012 Related to the 1915-1920 MHz and 1995-2000 MHz Bands, Report and Order, FCC 13-88, 28 FCC Rcd 9483 (2013). The R&O also implemented § 6004 by requiring that a party seeking to participate in any auction conducted pursuant to the 2012 Spectrum Act certify in its application, under penalty of perjury, that the applicant and all of the related individuals and entities required to be disclosed on its application are not person(s) who have been, for reasons of national security, barred by any agency of the Federal Government from bidding on a contract, participating in an auction, or receiving a grant and thus statutorily prohibited from participating in such a Commission auction or being issued a license. In addition, the R&O determined that the National Security Certification required by § 6004 extends to transfers, assignments, and other secondary market mechanisms involving licenses granted pursuant to the 2012 Spectrum Act. See H Block R&O, 28 FCC Rcd at 9555 ¶ 187. OMB approved the revision to the collection for the FCC Form 608 to include this additional certification. The revised collection will enable the Commission to determine whether an applicant's request for a license pursuant to the 2012 Spectrum Act is consistent with § 6004. Additionally, the FCC Form 608 is revised to update the Alien Ownership certifications pursuant to the Second Report and Order, FCC 13-50, IB Docket 11-133, Review of Foreign Ownership Policies for Common Carrier and Aeronautical Radio Licensees under § 310(b)(4) of the Communications Act of 1934, as Amended. The addition of the National Security Certification and the revision to the Alien Ownership certification result in no change in burden for the revised collection. The Commission estimates that the additional certification will not measurably increase the estimated average amount of time for respondents to complete FCC Form 608 across the range of applicants or for Commission staff to review the applications.

Federal Communications Commission.
Marlene H. Dortch,
Secretary, Office of the Secretary, Office of Managing Director.

[FR Doc. 2014-02826 Filed 2-7-14; 8:45 am]

BILLING CODE 6712-01-P